DEPARTMENT OF COMMERCE

Foreign-Trade Zones Board

[B-17-2026]

Foreign-Trade Zone (FTZ) 38, Notification of Proposed Production Activity; Coroplast Tape Corporation; (Pressure Sensitive Tapes); Rock Hill, South Carolina

Coroplast Tape Corporation submitted a notification of proposed production activity to the FTZ Board (the Board) for its facility within FTZ 38. The notification conforming to the requirements of the Board's regulations (15 CFR 400.22) was received on February 9, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: double sided adhesive tape; electrical insulated tape; PVC tape; halogen free wire harness tape; foam tape; single sided paper tape; non-woven stitch bonded tape; sleeve; tape; abrasion resistant tape; polyester cloth tape; velour adhesive tape; tube tape; and, heat resistant tape (duty rate ranges from duty-free to 17.20%).

The proposed foreign-status materials/components include: acrylic based adhesive; vinyl acetate copolymer; copolymer of ethylene and butyl acrylate; polyacrylate resin; liquid resin; single sided film tape; high density polyethylene film; polyethylene plastic liner; plastic mother roll core; thermoplastic elastomer; paper liner; corrugated cores for tape rolls; finger left self-adherent tape; polyethylene terephthalate tape; polyethylene cloth (non-woven baric made from polyethylene terephthalate fibers); polyethylene terephthalate tissue; and, aluminum carrier (duty rate ranges from duty-free to 10%).

The request indicates that certain materials/components are subject to duties under section 1702(a)(1)(B) of the International Emergency Economic Powers Act (section 1702) and section 232 of the Trade Expansion Act of 1962 (section 232 depending on the country of origin. The applicable section 1702, and section 232 decisions require subject merchandise to be admitted to FTZs in privileged foreign status (19 CFR 146.41).

Public comment is invited from interested parties. Submissions shall be addressed to the Board's Executive Secretary and sent to: ftz@trade.gov. The closing period for their receipt is March 25, 2026.

A copy of the notification will be available for public inspection in the “Online FTZ Information System” section of the Board's website.

For further information, contact Brian Warnes at brian.warnes@trade.gov.

Dated: February 10, 2026.
Elizabeth Whiteman,
Executive Secretary.

[FR Doc. 2026-02932 Filed 2-12-26; 8:45 am]

BILLING CODE 3510-DS-P